DEPARTMENT OF DEFENSE

Department of the Army

Corps of Engineers

Intent To Prepare a Draft Environmental Impact Statement for the Louisiana Coastal Area (LCA)—Louisiana, Caminada Headland and Shell Island Restoration Feasibility Study

AGENCY: Department of the Army, U.S. Army Corps of Engineers, DoD.

ACTION: Notice of intent.

SUMMARY: This notice of intent (NOI) for the Louisiana Coastal Area (LCA)—Louisiana, Caminada Headland and Shell Island Restoration Feasibility Study (LCA Caminada-Shell Island Study) supersedes the notices of intent for the Barrier Shoreline Restoration in Lafourche, Jefferson, and Plaquemines Parishes, Louisiana, a Component of the Louisiana Coastal Area, Louisiana—Ecosystem Restoration, Barrier Island Restoration, Marsh Creation, and River Diversion, Barataria Basin Feasibility Study (Barrier Shoreline Restoration Study); and the Wetland Restoration and/or Creation in the Barataria Basin, Louisiana, a Component of the Louisiana Coastal Area, Louisiana—Ecosystem Restoration, Barrier Island Restoration, Marsh Creation, and River Diversion, Barataria Basin Feasibility Study (LCA Wetland Restoration Study). This notice of intent addresses the Caminada Headland and Shell Island reaches of the Barataria barrier shoreline that is presently addressed in the NOI for the Barrier Shoreline Restoration Study and also addresses the Chenier Unit marsh creation feature that is presently addressed in the NOI for the Wetland Restoration Study.

DATES: Scoping meetings will be conducted during the 30-day scoping meeting comment period so that scoping meeting comments will be accepted up to 10 days following the final scoping meeting.

ADDRESSES: Scoping comments regarding the Draft EIS (DEIS) for the LCA Caminada Headland and Shell Island Restoration Feasibility Study may be provided orally or in writing at the scoping meetings; sent via email to LCACSI@mvn02.usace.army.mil; sent via the Worldwide Web at http://www.LCA.gov; or sent via letter postmarked not later than the close of the scoping comment period to Dr. William P. Klein, Jr., CEMVN-PM-RS, P.O. Box 60267, New Orleans, LA 70160-0267. Comments will not be accepted if submitted by facsimile (fax).

FOR FURTHER INFORMATION CONTACT: Dr. William P. Klein, Jr., (504) 862-2540.

SUPPLEMENTARY INFORMATION: 1. Background: On April 28, 2000 a NOI was published in the Federal Register (65 FR 24944) for preparing an Environmental Impact Statement (EIS) for the Barrier Shoreline Restoration in Lafourche, Jefferson, and Plaquemines Parishes, Louisiana, a Component of the Louisiana Coastal Area, Louisiana—Ecosystem Restoration, Barrier Island Restoration, Marsh Creation, and River Diversion, Barataria Basin Feasibility Study (LCA Barrier Shoreline Restoration Study). On May 5, 2000 a notice of intent was published in the Federal Register (65 FR 26192) for preparing an EIS for the Wetland Restoration and/or Creation in the Barataria Basin, Louisiana, a Component of the Louisiana Coastal Area, Louisiana—Ecosystem Restoration, Barrier Island Restoration, Marsh Creation, and River Diversion, Barataria Basin Feasibility Study (LCA Wetland Creation Study). Investigation of these studies was temporarily suspended pending completion of the near-term Louisiana Coastal Area (LCA), Louisiana Ecosystem Restoration Feasibility Study (LCA Ecosystem Restoration Study). A final programmatic EIS for the LCA Ecosystem Restoration Study was released for public comment in November 2004, completed in December 2004, and the related Chief of Engineers Report was signed on January 31, 2005. The programmatic findings specify recommendations that refocus and advance planning, scientific, and restoration efforts that are already underway. The Corps believes these findings have influenced the purpose and need for action and the scope of the analysis of the LCA Caminada Headland and Shell Island Restoration Feasibility Study. Hence, the Corps proposes to prepare a draft EIS for the LCA Caminada Headland and Shell Island Restoration Feasibility Study.

The EIS will document the NEPA (National Environmental Policy Act of 1969) process identifying and assessing reasonable alternatives to proposed actions that will avoid or minimize adverse effects of these actions upon the quality of the human environment. Specifically, the EIS will analyze the potential direct, indirect, and cumulative impacts of implementing barrier shoreline restoration and wetland restoration in Lafourche, Plaquemines, and portions of Jefferson Parishes, Louisiana. The LCA Caminada-Shell Island Restoration Study, as stated in the January 2005 Chiefs Report, is one of 15 near-term features of the LCA Ecosystem Restoration Plan. Each of the 15 LCA projects will address critical near-term, site-specific restoration actions across the Louisiana coast. The study investigating the Caminada Headland and Shell Island reaches of the Barataria Barrier Shoreline initiates detailed feasibility-level plan formulation and environmental impacts analysis.

2. Proposed Action and Reasonable Alternatives. This restoration feature involves mining offshore and/or riverine sediment sources to reestablish a sustainable barrier system (e.g. barrier islands, shorelines, and headlands) at Caminada Headland and Shell Island. The proposed action will build upon the alternatives considered under the LCA Barrier Shoreline Restoration Study and the LCA Wetland Creation Study. The proposed action will consider all reasonable alternatives for restoration of the Caminada Headland and Shell Island, including: Consideration of offshore, nearshore, riverine, and other borrow sources; varying widths and configurations of barrier shoreline and dune heights; marsh restoration as a platform for barrier shoreline rollover; as well as other recommendations from the public and interested parties. The Caminada Headland and Shell Island reaches are critical components of the Barataria Barrier System. The Caminada headland protects one of the highest concentrations of near-gulf oil and gas infrastructure in the coastal zone. This reach of the Barataria shoreline also supports the only land-based access to the barrier shoreline in the Deltaic Plain. The Shell Island segment has been nearly lost, and failure to take restorative action could result in the loss of any future options for restoration. Loss of the Shell Island segment would result in permanent modification of the tidal hydrology of the Barataria Basin. The Shell Island segment is the only remaining natural barrier between the Gulf and lower Plaquemines Parish.

3. Scoping Process. The Council on Environmental Quality (CEQ) regulations implementing the NEPA process directs federal agencies that have made a decision to prepare an environmental impact statement to engage in a public scoping process. The scoping process is designed to provide an early and open means of determining the scope of issues (problems, needs, and opportunities) to be identified and addressed in the draft environmental impact assessment. Scoping is the process used to: (a) Identify the affected public and agency concerns; (b) facilitate an efficient EIS preparation process; (c) define the issues and alternatives that will be examined in detail in the EIS; and (d) save time in the overall process by helping to ensure that the draft statements adequately address relevant issues. Scoping is a process, not an event or a meeting. It continues throughout the planning for a draft EIS and may involve meetings, telephone conversations, and/or written comments.

4. Request for Scoping Comments. In June 2005, the Corps will conduct scoping meetings to determine the scope of issues to be addressed and for identifying the significant issues related to the draft Environmental Impact Statement (DEIS) for the Louisiana Coastal Area (LCA), Louisiana—Caminada Headland and Shell Island Restoration Feasibility Study. Notices will be mailed to the affected and interested public once the dates and locations of the scoping meetings have been established. The Corps invites scoping input concerning the following scoping focus questions: Question #1: What are the critical natural and human environmental problems and needs that should be addressed in the DEIS? For example, critical natural and human ecological needs may include: barrier shoreline sustainability, navigation, barrier shoreline habitat restoration, hurricane and flood protection, protection of human infrastructure, and others. Question #2: What are the significant resources that should be considered in the DEIS? For example, significant resources may include: Barrier shorelines, offshore sand resources, water quality, threatened and endangered species, and others. Question #3: What are the reasonable restoration alternatives that should be considered in the DEIS? For example, consider alternative borrow sites from inland reaches of the Mississippi River and outside the system, rock the entire shoreline, use hardened structures such as break waters, re-establish the barrier shoreline further inland, emphasize marsh creation as major component of barrier shoreline restoration, and others. Interested parties are encouraged to provide their input and recommendations for all significant issues of the study.

Scoping comments will be compiled, analyzed, and utilized in the plan formulation process. A Scoping Report, summarizing the comments, will be made available to all scoping participants and published on the Louisiana Coastal Area Web site (http://www.LCA.gov). Scoping comments will be accepted throughout the scoping comment period (see DATES).

5. Public Involvement. Scoping is a critical component of the overall public involvement program. An intensive public involvement program will continue throughout the study to solicit input from affected Federal, State, and local agencies, Indian tribes, and other interested parties.

6. Interagency Coordination and Cooperation. Pursuant to section 1501.6 of the NEPA (30 CFR parts 1500-1508), the following agencies have been invited to participate in the study as cooperating agencies on the EIS: Minerals Management Service, National Marine Fisheries Service, Natural Resources Conservation Service, U.S. Environmental Protection Agency, U.S. Fish and Wildlife Service, U.S. Geological Service, Louisiana Department of Environmental Quality, Louisiana Department of Natural Resources, and the Louisiana Department of Wildlife and Fisheries. The U.S. Fish and Wildlife Service will provide a Fish and Wildlife Coordination Act Report. Coordination will be maintained with the U.S. Fish and Wildlife Service and the National Marine Fisheries Service regarding threatened and endangered species under their respective jurisdictional responsibilities. Coordination will be maintained with the National Marine Fisheries Service regarding essential fish habitat. Coordination will be maintained with the Natural Resources Conservation Service regarding prime and unique farmlands. The U.S. Department of Agriculture will be consulted regarding the “Swampbuster” provisions of the Food Security Act. Coordination will be maintained with the U.S. Environmental Protection Agency concerning compliance with Executive Order 12898, “Federal Action to Address Environmental Justice in Minority Populations and Low-Income Populations.” Coordination will be maintained with the Advisory Counsel on Historic Preservation and the State Historic Preservation Officer. The Louisiana Department of Natural Resources will be consulted regarding consistency with the Coastal Zone Management Act. The Louisiana Department of Wildlife and Fisheries will be contacted concerning potential impacts to Natural and Scenic Streams.

7. Availability of Draft EIS. It is anticipated that the Draft EIS will be available for public review during the late summer of 2005. A 45-day review period will be provided so that all interested agencies, groups and individuals will have an opportunity to comment on the Draft EIS. In addition, public meetings will be held during the review period to receive comments and address questions concerning the Draft EIS.

Dated: May 9, 2005.
Peter J. Rowan,
Colonel, U.S. Army, District Engineer.

[FR Doc. 05-9997 Filed 5-18-05; 8:45 am]

BILLING CODE 3710-84-P